DEPARTMENT OF COMMERCE

National Oceanic and Atmospheric Administration

RIN: 0648-XY77

New England Fishery Management Council; Public Meeting

AGENCY: National Marine Fisheries Service (NMFS), National Oceanic and Atmospheric Administration (NOAA), Commerce

ACTION: Notice of a public meeting.

SUMMARY: The New England Fishery Management Council (Council) is scheduling a public meeting of its Scallop Advisory Panel, in September, 2010, to consider actions affecting New England fisheries in the exclusive economic zone (EEZ). Recommendations from this group will be brought to the full Council for formal consideration and action, if appropriate.

DATES: This meeting will be held on Wednesday, September 22, 2010 at 9 a.m.

ADDRESSES: This meeting will be held at the Courtyard by Marriott, 32 Exchange Terrace, Providence, RI 02903; telephone: (401) 272-1191; fax: (401) 272-1416.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Advisory Panel will review Amendment 15 DEIS alternatives and analyses, as well as input from previous public hearings and written public comments. Amendment 15 is considering measures to comply with annual catch limits, measures to address excess capacity in the limited access scallop fishery, as well as a handful of other measures to make the program more effective such as specific adjustments to the general category IFQ program, modifications to the research set-aside program, adjustments to the overfishing definition, modifications to EFH closed areas and changing the start of the fishing year. The panel will identify recommendations for the Scallop Oversight Committee to consider as preferred alternatives the following day. The Council is scheduled for final action on Amendment 15 at their September 28-30, 2010 Council meeting.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: August 31, 2010.
Tracey L. Thompson,
Acting Director, Office of Sustainable Fisheries, National Marine Fisheries Service.

[FR Doc. 2010-22092 Filed 9-2-10; 8:45 am]

BILLING CODE 3510-22-S